DEPARTMENT OF THE INTERIOR

National Park Service

[NPS-WASO-NAGPRA-25273; PPWOCRADN0-PCU00RP14.R50000]

Notice of Inventory Completion: U.S. Army Corps of Engineers, Omaha District, Omaha, NE, and State Archaeological Research Center, Rapid City, SD

AGENCY: National Park Service, Interior.

ACTION: Notice.

SUMMARY: The U.S. Army Corps of Engineers, Omaha District (Omaha District), has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Omaha District. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Omaha District at the address in this notice by May 14, 2018.

ADDRESSES: Ms. Sandra Barnum, U.S. Army Engineer District, Omaha, ATTN: CENWO-PM-AB, 1616 Capital Avenue, Omaha, NE 68102, telephone, (402) 995-2674, email sandra.v.barnum@usace.army.mil.

SUPPLEMENTARY INFORMATION: Notice is here given in accordance with the Native American Graves Protection and Repatriation Act (NAGPRA), 25 U.S.C. 3003, of the completion of an inventory of human remains and associated funerary objects under the control of the U.S. Army Engineer District, Omaha District and in the physical custody of the South Dakota State Archaeological Research Center (SARC). The human remains and associated funerary objects were removed from sites 39WW0003 and 39CA0006 in Walworth and Campbell Counties, SD.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by SARC and Omaha District professional staff in consultation with representatives of the Three Affiliated Tribes of the Fort Berthold Reservation, North Dakota.

History and Description of the Remains

In 1956, human remains representing, at minimum, four individuals were removed from two features (Feature 2 and Feature 4) at site 39CA0006, Bamble Site, in Campbell County, SD. Each feature reportedly contained the remains of two individuals. The human remains were collected by Dr. David A. Baerreis, University of Wisconsin, when multiple sites were excavated prior to the creation of the Oahe Dam Reservoir. The human remains and associated funerary objects were originally stored at the University of Wisconsin-Madison until the collection was moved to SARC in 2015. An inventory of the collections at SARC located human remains and associated funerary objects from Feature 4. No human remains from Feature 2 were located. The human remains at SARC from Feature 4 total a minimum of four individuals (3 adults and 1 subadult). No known individuals were identified. The 1,168 associated funerary objects from Feature 4 include 1 complete ceramic vessel, 154 ceramic rim sherds, 877 ceramic body sherds, 1 ceramic handle sherd, 3 badland knives, 1 petrified wood badlands knife, 4 faunal bone awls, 13 unidentifiable faunal bone fragments, 12 faunal bone hoes, 4 modified antlers, 10 modified faunal bones, 2 faunal shaft wenches, 1 unidentifiable faunal bone, 1 charcoal piece, 3 seed vials, 2 corn seed vials, 5 biface flakes, 3 biface knives, 1 biface tool, 1 chert projectile point, 2 chipped stones, 1 chipped stone fragment, 3 groundstones, 1 groundstone axe, 1 ground stone fragment, 5 hammerstones, 2 modified flakes, 1 polishing stone, 5 scrapers, 7 shaft abraders, 1 uniface flake, 1 brass tinkler, 2 brass tubes, 2 brass fragments, 21 gypsum crystals, 2 red ochre vials, 1 yellow ochre vial, 1 modified chalcedony flake, 1 catlinite pipe, 4 chalcedony scrapers, 4 petrified wood scrapers, and 1 war club.

In 1956 human remains representing, at minimum, 12 individuals were removed from site 39WW0003, Spiry-Eklo Site, in Walworth County, SD. The human remains were collected by Dr. David A. Baerreis, University of Wisconsin, when multiple sites were excavated prior to the creation of the Oahe Dam Reservoir. The human remains and associated funerary objects were originally stored at the University of Wisconsin-Madison until the collection was moved to SARC in 2015, where they are currently housed under the managerial control of the Omaha District. An inventory of the collections identified 12 individuals (8 adults of indeterminate sex, 2 subadults, and 2 infants). No known individuals were identified. The 743 associated funerary objects include 127 ceramic rim sherds, 558 ceramic body sherds, 2 ceramic handle sherds, 2 bone awls (faunal), 2 bone hoes (faunal), 5 modified bones (faunal), 3 unidentified bone fragments (faunal), 2 burnt corn cobs, 1 wood fragment, 12 glass beads, 2 abraders, 1 biface fragment, 1 biface knife, 7 chipped stone flakes, 1 chipped stone tool, 1 modified flake, 3 projectile points, 3 uniface flakes, 1 catlinite fragment, and 9 scrapers.

Based on morphological characteristics, archeological context, and associated funerary objects, the human remains in this notice are determined to be Native American. Both Site 39CA0006 and Site 39WW0003 are fortified villages and are believed to represent the Extended Coalescent (A.D. 1500-1675) because of the mix of European and Native elements among the objects, including brass elements and glass beads, as well as the presence of flexed primary inhumations and log coverings, which represent a burial practice of the Akaska Focus. Based on oral tradition, historic accounts, archeological evidence, geographical location, and physical anthropological interpretations, the Extended Coalescent variants are believed to be ancestral Arikara. The Arikara are represented today by the Three Affiliated Tribes of the Fort Berthold Reservation, North Dakota.

Determinations Made by the Omaha District

Officials of the U.S. Army Corps of Engineers, Omaha District have determined that:

• Pursuant to 25 U.S.C. 3001(9), the human remains described in this notice represent the physical remains of 16 individuals of Native American ancestry.

• Pursuant to 25 U.S.C. 3001(3)(A), the 1,911 objects described in this notice are reasonably believed to have been placed with or near individual human remains at the time of death or later as part of the death rite or ceremony.

• Pursuant to 25 U.S.C. 3001(2), there is a relationship of shared group identity that can be reasonably traced between the Native American human remains and associated funerary objects and the Three Affiliated Tribes of the Fort Berthold Reservation, North Dakota.

Additional Requestors and Disposition

Lineal descendants or representatives of any Indian tribe or Native Hawaiian organization not identified in this notice that wish to request transfer of control of these human remains and associated funerary objects should submit a written request with information in support of the request to Ms. Sandra Barnum, U.S. Army Engineer District, Omaha, ATTN: CENWO-PM-AB, 1616 Capital Avenue, Omaha, NE 68102, telephone, (402) 995-2674, email sandra.v.barnum@usace.army.mil by May 14, 2018. After that date, if no additional requestors have come forward, transfer of control of the human remains and associated funerary objects to the Three Affiliated Tribes of the Fort Berthold Reservation, North Dakota, may proceed.

The U.S. Army Corps of Engineers, Omaha District is responsible for notifying the Three Affiliated Tribes of the Fort Berthold Reservation, North Dakota, that this notice has been published.

Dated: March 21, 2018.
Melanie O'Brien,
Manager, National NAGPRA Program.

[FR Doc. 2018-07702 Filed 4-12-18; 8:45 am]

BILLING CODE 4312-52-P